DEPARTMENT OF HEALTH AND HUMAN SERVICES

National Institutes of Health

National Institute of Allergy and Infectious Diseases; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Allergy and Infectious Diseases Special Emphasis Panel, Comprehensive International Program of Research on AIDS (CIPRA)—Uganda/Kenya.

Date: May 30, 2003.

Time: 12 p.m. to 4 p.m.

Agenda: To review and evaluate grant applications.

Place: National Institutes of Health, Rockledge 6700, 6700B Rockledge Drive, Bethesda, MD 20817, (Telephone Conference Call).

Contact Person: Eleazar Cohen, PhD, Scientific Review Administrator, Scientific Review Program, National Institute of Allergy and Infectious Diseases, DEEA/NIH/DHHS, 6700 B Rockledge Drive, MSC 7616, Room 3112, Bethesda, MD 20892-7616, 301-435-3564, ec17w@nih.gov.

Name of Committee: National Institute of Allergy and Infectious Disease Special Emphasis Panel, Comprehensive International Program of Research on AIDS (CIPRA)—Thailand.

Date: June 4, 2003.

Time: 10 a.m. to 12:30 p.m.

Agenda: To review and evaluate grant applications.

Place: National Institutes of Health, Rockledge 6700, 6700B Rockledge Drive, Bethesda, MD 20817, (Telephone Conference Call).

Contact Person: Eleazar Cohen, PhD, Scientific Review Administrator, Scientific Review Program, National Institute of Allergy and Infectious Diseases, DEA/NIH/DHHS, 6700 B Rockledge Drive, MSC 7616, Room 3112, Bethesda, MD 20892-7616, 301-435-3564, ec17w@nih.gov.

Name of Committee: National Institute of Allergy and Infectious Diseases Special Emphasis Panel, Partnerships: Hepatitis B and Vector Borne Diseases Control (Part B: Tick-borne Diseases Transmission).

Date: June 13, 2003.

Time: 2 p.m. to 5 p.m.

Agenda: To review and evaluate grant applications.

Place: National Institutes of Health, Rockledge 6700, 6700B Rockledge Drive, Bethesda, MD 20817, (Telephone Conference Call).

Contact Person: Gary S. Madonna, PhD, Scientific Review Administrator, Scientific Review Program, Division of Extramural Activities NIAID, NIH, DHHS, 6700-B Rockledge Drive, MSC 7616, Room 2149, Bethesda, MD 20892-7616, 301-496-3528, gm12w@nih.gov.

Name of Committee: National Institute of Allergy and Infectious Diseases Special Emphasis Panel, Partnerships: Hepatitis B and Vector Borne Diseases Control (Part C: Arthropod Vector Control).

Date: June 17, 2003.

Time: 11 a.m. to 2 p.m.

Agenda: To review and evaluate grant applications.

Place: National Institutes of Health, Rockledge 6700, 6700-B Rockledge Drive, Bethesda, MD 20817, (Telephone Conference Call).

Contact Person: Gary S. Madonna, PhD, Scientific Review Administrator, Scientific Review Program, Division of Extramural Activities NIAID, NIH, DHHS, 6700-B Rockledge Drive, MSC 7616, Room 2149, Bethesda, MD 20892-7616, 301-496-3528, gm12w@nih.gov.

Name of Committee: National Institute of Allergy and Infectious Diseases Special Emphasis Panel, Partnerships: Hepatitis B and Vector Borne Diseases Control (Part A: Hepatitis B Therapies).

Date: June 18, 2003.

Time: 2 a.m. to 5 p.m.

Agenda: To review and evaluate grant applicants.

Place: National Institutes of Health Rockledge 6700, 6700-B Rockledge Drive, Bethesda, MD 20817, (Telephone Conference Call).

Contact Person: Gary S. Madonna, PhD., Scientific Review Administrator, Scientific Review Program, Division of Extramural Activities, NIAID, NIH, DHHS, 6700-B Rockledge Drive, MSC 7616, Room 2149, Bethesda, MD 20892-7616, 301-496-3528, gm12w@nih.gov.

(Catalogue of Federal Domestic Assistance Program Nos. 93.855, Allergy, Immunology, and Transplantation Research; 93.856, Microbiology and Infectious Diseases Research, National Institutes of Health, HHS)
Dated: May 8, 2003.
Anna P. Snouffer,
Deputy Director, Office of Federal Advisory Committee Policy.

[FR Doc. 03-12080 Filed 5-14-03; 8:45 am]

BILLING CODE 4140-01-M